DEPARTMENT OF TRANSPORTATION

Federal Aviation Administration

Advisory Circular; Guidance Material For 14 CFR § 33.28, Reciprocating Engines, Electrical And Electronic Engine Control Systems

AGENCY: Federal Aviation Administration, DOT

ACTION: Notice of availability of advisory circular.

SUMMARY: The Federal Aviation Administration (FAA) announces the availability of Advisory Circular (AC) Number 33.28-2, Guidance Material For 14 CFR 33.28, Reciprocating Engines, Electrical And Electronic Control Systems.

DATES: The Engine and Propeller Directorate, Aircraft Certification Service, issued AC 33.28-2 on August 13, 2003.

FOR FURTHER INFORMATION CONTACT: Mark Rumizen, Engine and Propeller Standards Staff, ANE-110, 12 New England Executive Park, Burlington, MA 0183-5299; telephone: (781) 238-7113; fax: (781) 238-7199; e-mail: mark. rumizen@faa.gov. The subject AC is available on the Internet at the following address: http://www.airweb.faa.gov/rgl.

SUPPLEMENTARY INFORMATION: The FAA published a notice in theFederal Register on July 10, 2002 (67 FR 45780) to announce the availability of the proposed AC and invite interested parties to comment.

Background

Electrical and Electronic Engine Control (EEC) technology was initially applied to turbine engines designed for large transport aircraft applications. Therefore, the information and guidance for showing compliance with § 33.28 provided by the FAA was oriented toward these applications. However, the increasing use of EEC systems in reciprocating piston engines has created a need for guidance specifically for reciprocating engines. This AC provides a means, but not the only means, of compliance with § 33.28 that addresses these issues.

Authority: 49 U.S.C. 106(g), 40113, 44701-44702, 44704.

Issued in Burlington, Massachusetts, on August 13, 2003.
Marc J. Bouthillier,
Acting Manager, Engine and Propeller Directorate, Aircraft Certification Service.

[FR Doc. 03-21773 Filed 8-25-03; 8:45 am]

BILLING CODE 4910-13-M